DEPARTMENT OF AGRICULTURE

Forest Service

Tuolumne County Resource Advisory Committee

AGENCY: Forest Service, USDA.

ACTION: Notice of meeting.

SUMMARY: The Tuolumne County Resource Advisory Committee will meet on June 14, 2004, at the City of Sonora Fire Department, in Sonora, California. The purpose of the meeting is to review 12 project submittals based on presentations made by project proponents.

DATES: The meeting will be held June 14, 2004, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370 (209) 532-3671; e-mail pkauner@fs.fed.us.

SUPPLEMENTARY INFORMATION: Agenda items to be covered include: (1) Presentation of nine Forest Service, and three non-Forest Service project submittals by project proponents, with follow-up question and answer sessions. Time allocated for each presentation and question/answer session is 12 minutes; (2) Discussion on outreach needs for new applicants for RAC membership; (3) Public comment on meeting proceedings. This meeting is open to the public.

Dated: May 20, 2004.
Tom Quinn,
Forest Supervisor.

[FR Doc. 04-11995 Filed 5-26-04; 8:45 am]

BILLING CODE 3410-ED-M